DEPARTMENT OF HEALTH AND HUMAN SERVICES

Continuation of the Rabia Balkhi Hospital (RBH) Physician Training and Support Program in Afghanistan

AGENCY: Office of the Secretary, HHS.

ACTION: Notice of intent to fund a single eligibility award.

SUMMARY: The Office of Global Health Affairs (OGHA) announces the intent to allocate fiscal year (FY) 2004 funds for a grant program for services provided by the International Medical Corps (IMC) that will allow the continuation of the Rabia Balkhi Hospital (RBH) Physician Training and Support Program in Afghanistan. The goal of the project is to reduce the maternal and infant mortality rates in Afghanistan through the training of obstetrician-gynecologists (OB-GYNS) and other health care workers at RBH. Forty percent of deaths among women of childbearing age in Afghanistan are caused by preventable complications related to childbirth, and an estimated one in four children dies before reaching their fifth birthday.

A. Purpose

The project's main objectives include: (1) To improve the capacity of the hospital's staff to practice medicine, (2) to improve the quality of care for RBH patients. These services are expected to dramatically improve patient care and to make a substantial reduction in maternal and infant illness and deaths at the hospital.

The Catalog of Federal Domestic Assistance number for this program is 93.003.

B. Eligible Applicant

Assistance will be provided only to International Medical Corps (IMC).

The IMC is the only organization in Afghanistan qualified to collaborate with the Office of Global Health Affairs. IMC is a global humanitarian nonprofit organization, exceptionally well-qualified, with a vast network of health facilities staffed by a dedicated cadre of health care professionals. In Afghanistan, IMC has established a strong foundation for training activities, and the ongoing provision of primary health care services to men, women, and children throughout the country. IMC supported clinics have treated more than 500,000 men, women, and children in Afghanistan since 2001. No other institution in the country has the capacity and expertise to accomplish this task.

C. Funding

Approximately $685,000 is available in FY 2004 to fund this award. It is expected that the award will cover costs for the period February 1, 2004 through September 30, 2004. Funding estimates may change.

D. Where To Obtain Additional Information

For general comments or questions about this announcement, contact: Brian Trent, Management Operations Officer, Office of Global Health Affairs, Department of Health and Human Services, 5600 Fishers Lane, Room 18-101, Rockville, MD 20857, Telephone: 301-443-4560.

For technical questions about this program, contact: Amar Bhat, Office of Global Health Affairs, Department of Health and Human Services, 5600 Fishers Lane, Room 18-101, Rockville, MD 20857, Telephone: 301-443-1410, E-mail: abhat@osophs.dhhs.gov.

Dated: August 20, 2004.
RADM Arthur J. Lawrence,
Assistant Surgeon General, Acting Principal Deputy Assistant Secretary for Health, Office of Public Health and Science.

[FR Doc. 04-19409 Filed 8-24-04; 8:45 am]

BILLING CODE 4150-28-P